DEPARTMENT OF ENERGY

Federal Energy Regulatory Commission

[Project No.: 13301-001]

Town of Afton; Notice of Application Tendered for Filing With the Commission and Soliciting Additional Study Requests

December 17, 2008.

Take notice that the following hydroelectric application has been filed with the Commission and is available for public inspection.

a. Type of Application: small hydroelectric exemption.

b. Project No.: 13301-001.

c. Date filed: November 25, 2008.

d. Applicant: Town of Afton.

e. Name of Project: Town of Afton Culinary Water System Hydroelectric Project.

f. Location: In Swift Creek Canyon, near the town of Afton, Lincoln County, Wyoming. The project would occupy 10.5 acres of federal land managed by the Forest Service within the Bridger-Teton National Forest.

g. Filed Pursuant to: Public utility Regulatory Policies Act 1978, 16 U.S.C. 2705, 2708.

h. Applicant Contact: Town of Afton, James K. Sanderson, 416 Washington Street, P.O. Box 310, Afton, WY 83110, or Brent L. Smith, Symbiotics, LLC, P.O. Box 535, Rigby, ID 83402, (208) 745-0834.

i. FERC Contact: Gaylord Hoisington, (202) 502-6032 or gaylord.hoisington@ferc.gov.

j. Cooperating agencies: We are asking Federal, state, local, and tribal agencies with jurisdiction and/or special expertise with respect to environmental issues to cooperate with us in the preparation of the environmental document. Agencies who would like to request cooperating status should follow the instructions for filing comments described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of this notice, and serve a copy of the request on the applicant.

l. Deadline for filing additional study requests and requests for cooperating agency status: February 17, 2009.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. The application is not ready for environmental analysis at this time.

n. The Town of Afton Culinary Water System Hydroelectric Project consist of: (1) An existing underground intermittent spring (Periodic Springs) that provides the town's water; (2) an existing 97,000 gallon buried concrete surge tank; (3) an existing 16,775-foot-long, 18-inch-diameter iron ductile pipe; (3) construction of a new 30-foot-high by 20-foot-square powerhouse containing a 225 kilowatt Pelton impulse turbine and generator; and (4) other appurtenances. The project is estimated to generate an average of 1,272,463 kilowatt-hours annually.

Water flow from the spring is piped to a 97,000 gallon buried concrete surge tank. From the surge tank, the water flows through a 16,775-foot-long pipe to an existing water treatment facility. The original water treatment plan design incorporated a bifurcation of the 18-inch pipe before it reached the treatment plant. It is at this bifurcation that a proposed 18-inch pipe will be fitted that will divert up to 12-cubic-foot-per-second (cfs) (design capacity of the turbine unit) to the proposed power house and Pelton turbine and generator. Upon exiting the turbine the water will flow through a new chlorination system and into the existing 1 million gallon water storage tank and used as need by the town. The power from the project will be used on site to operate the water treatment plant and other electrical needs at the plant.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Wyoming State Historic Preservation Officer (SHPO), as required by § 106, National Historic Preservation Act, and the regulations of the Advisory Council on Historic Preservation, 36, CFR, at § 800.4.

q. Procedural schedule and final amendments: The application will be processed according to the following Hydro Licensing Schedule. Revisions to the schedule and procedure will be made as appropriate.

Request Additional Information—February 25, 2009.

Issue Acceptance letter—March 1, 2009.

Issue scoping document 1—June 30, 2009.

Issue ready for environmental analysis—August 1, 2009.

Issue environmental analysis—October 1, 2009.

Kimberly D. Bose,
Secretary.

[FR Doc. E8-30565 Filed 12-23-08; 8:45 am]

BILLING CODE 6717-01-P